DEPARTMENT OF TRANSPORTATION

Federal Aviation Administration

Public Notice for Waiver of Aeronautical Land-Use Assurance; Rickenbacker International Airport; Columbus, OH

AGENCY: Federal Aviation Administration, DOT.

ACTION: Notice of intent of waiver with respect to land.

SUMMARY: The Federal Aviation Administration (FAA) is considering a proposal to change a portion of the airport from aeronautical use to non-aeronautical use and to authorize the lease of the airport property. The triangular parcel consists of 85.85 acres. The land is currently vacant and being farmed. The land was acquired by the Rickenbacker Port Authority through a Quitclaim Deed dated November 15, 1999 and a Quitclaim Deed dated September 22, 2003 from the United States of America through the Secretary of the Air Force. There are no impacts to the airport by allowing the airport to lease the property. The release of the property is being requested to allow for development into an intermodal transportation facility, along with roadway access. Approval does not constitute a commitment by the FAA to financially assist in the lease of the subject airport property nor a determination of eligibility for grant-in-aid funding from the FAA. The disposition of proceeds from the lease of the airport property will be in accordance with FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before August 26, 2005.

FOR FURTHER INFORMATION CONTACT: Mary W. Jagiello, Program Manager, Federal Aviation Administration, Great Lakes Region, Detroit Airports District Office, DET ADO-608, 11677 South Wayne Road, Suite 107, Romulus, Michigan 48174. Telephone Number (734-229-2956)/Fax Number (734-229-2950). Documents reflecting this FAA action may be reviewed at this same location or at Rickenbacker International Airport, Columbus, Ohio.

SUPPLEMENTARY INFORMATION: Following is a legal description of the property located in Columbus, Franklin and Pickaway Counties, Ohio, and described as follows: Begin for Reference at Franklin County Monument FCGS 9962 in the line between Franklin and Pickaway Counties; Thence North 86°13′48″ West, a distance of 2319.83 feet, along the County line to a point in said line, and being the Point of True Beginning, for the herein described tract; Thence the following ten (10) courses and distances on, over and across the said (Tract 13) the said (Tract 1):

1. South 44°24′00″ East, a distance of 763.73 feet, parallel to and 30.00 feet south of the centerline of pavement, to a point;

2. South 54°01′23″ West, a distance of 138.50 feet, parallel to and 100.00 feet northwest of the west Runway Protection Zone, to a point;

3. South 44°30′28″ East, a distance of 1015.11 feet, parallel to and 100.00 feet south of the southwest line of the west Runway Protection Zone, to a point;

4. South 54°14′36″ West, a distance of 171.33 feet, parallel to and 100.00 feet northwest of the east Runway Protection Zone, to a point;

5. South 44°17′15″ East, a distance of 502.98 feet, parallel to and 100.00 feet south of southwest line of the east Runway Protection Zone, to a point being 30.00 feet west of the centerline of pavement;

6. South 09°51′29″ West, a distance of 397.45 feet, parallel to and 30.00 feet west of said centerline of pavement, to a point;

7. Continuing parallel and 30.00 feet west of said centerline of pavement with an arc of a curve to the left having a central angle of 86°42′06″, a radius of 320.00 feet, an arc length of 484.23 feet, a chord bearing of South 33°29′34″ East, with a chord distance of 439.34 feet, to a point;

8. South 76°50′37″ East, a distance of 576.15 feet, continuing parallel to and 30.00 feet west of said centerline of pavement to a point;

9. Continuing parallel and 30.00 feet west of said centerline of pavement with an arc of a curve to the right having a central angle of 80°04′07″, a radius of 35.00 feet, an arc length of 48.91 feet, a chord bearing of South 36°48′33″ East, with a chord distance of 45.03 feet, to a point;

10. South 03°13′30″ West, a distance of 62.92 feet, continuing parallel to and 30.00 feet west of said centerline of pavement to a point in the northerly right-of-way line of Ashville Pike, Pickaway County Road 28, (40 feet in width);

Thence North 86°36′31″ West, a distance of 1846.94 feet, along the northerly right-of-way line of said Ashville Pike to a point in a line common to said (Tract 1) and tract owned by Pickaway County Board of County Commissioners;

Thence North 04°07′45″ East, a distance of 20.00 feet, along the line common to said (Tract 1) and Pickaway County Board of County Commissioners to a point in northerly right-of-way line of said Ashville Pike;

Thence North 84°12′31″ West, a distance of 15.05 feet, along the northerly right-of-way line of said Ashville Pike to a point, being the southeast corner of a 0.90 acre tract conveyed to The Ohio Midland Light and Power Company of Canal Winchester and their (assigns) by deed of record in Deed Book 139, Page 402, being a common corner to said (Tract 1);

Thence the following three courses and distances along the lines common to said (Tract 1) and said 0.90 acre tract:

1. North 03°23′29″ East, a distance of 200.00 feet, to a point;

2. North 86°36′31″ West, a distance of 200.00 feet, to a point;

3. South 03°23′29″ West, a distance of 191.62 feet, to a point in the northerly right-of-way line of said Ashville Pike;

Thence North 84°12′31″ West, a distance of 530.00 feet, along the northerly right-of-way line of said Ashville Pike a line common to said (Tract 1) to a point in the easterly right-of-way line of Norfolk Western Railway Company; Thence North 03°35′44″ East, a distance of 1947.81 along the easterly right-of-way line of said Norfolk Western Railway Company a line common to said (Tract 1) then said (Tract 13) to a point of curvature, passing the northwest corner of (Tract 1) at 1823.98 feet.

Thence continuing along the easterly right-of-way line of said Norfolk Western Railway Company a line common to said (Tract 13) with a curve to the left having a central angle of 20°18′13″, a radius of 1938.85 feet, an arc length of 687.06 feet, a chord bearing of North 06°33′23″ West, with a chord distance of 683.47 feet, to a point a the northwest corner of said (Tract 13) a common corner with 255.289 acre (Tract 11) conveyed to Columbus Regional Airport Authority by deed of record in Instrument Number 200401210015232, said point being in the line between Franklin and Pickaway Counties;

Thence continuing along the easterly right-of-way line of said Norfolk Western Railway Company a line common to said (Tract 11) with a curve to the left having a central angle of 11°41′47″, a radius of 1938.85 feet, an arc length of 395.80 feet, with a chord bearing of North 22°33′23″ West, with a chord distance of 395.11 feet, to a point; Thence the following two (2) courses and distances on, over and across said (Tract 11):

1. North 45°36′00″ East, a distance of 143.75 feet, to a point;

2. South 44°24′00″ East, a distance of 691.07 feet, to the Point of True Beginning, containing 85.850 acres, more or less.

The bearings in the above description are based on the grid bearing of South 86°13′48″ East, between Franklin County Geodetic Survey Monument Number 9958 and Franklin County Geodetic Survey Monument Number 9962.

Issued in Romulus, Michigan on July 13, 2005.
Irene R. Porter,
Manager, Detroit Airports District Office FAA, Great Lakes Region.

[FR Doc. 05-14764 Filed 7-26-05; 8:45 am]

BILLING CODE 4910-13-M